FEDERAL COMMUNICATIONS COMMISSION

Public Information Collections Approved by Office of Management and Budget

May 19, 2000.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0715.

Expiration Date: 06/30/2001.

Title: Implementation of the Telecommunications Act of 1996: Telecommunications Carriers' Use of Customer Proprietary Network Information and Other Customer Information—CC Docket 96-115.

Form No.: N/A.

Respondents: Business or other for profit.

Estimated Annual Burden: 6832 respondents; 90.28 hours per response (avg). 616,817 total annual burden hours (for all collections under this control number).

Estimated Annual Reporting and Recordkeeping Cost Burden: $229,520,000.

Frequency of Response: On occasion; One-time requirement; Recordkeeping; Third party disclosure. Description: In the Order on Reconsideration in CC Docket No. 96-115 (released 9/3/99), the Commission reconsidered the previous CPNI Order, addressed petitions for forbearance from the requirements, and established rules to implement section 222. Among other things, carriers are permitted to use CPNI, without customer approval, under certain conditions. (Number of respondents: 4832; hours per response 39 hours; total annual burden: 188,448 hours). Carriers must obtain express customer approval to use CPNI to market service outside the customer's existing service relationship. (Number of respondents: 4832; hours per response: 30 minutes; total annual burden 2416 hours). Carriers must provide a one-time notification of customer's CPNI rights prior to any solicitation for approval. (Number of respondents: 4832; hours per response: 78 hours; total annual burden: 376,896 hours). Pursuant to this one-time notification requirement, these carriers must maintain a record of such notifications for a period of at least one year. (Number of respondents: 4832; hours per response: 30 minutes; total annual burden 2416 hours). Telecommunications carriers must establish a supervisory review process regarding carrier compliance with the rules in Part 64 for outbound marketing situations. (Number of respondents: 4832; hours per response: 15 minutes; total annual burden: 1208 hours). All telecommunications carriers must obtain on an annual basis a certification signed by a current officer attesting that he or she has personal knowledge that the carrier is in compliance with the Commission's rules and to create an accompanying statement explaining how the carriers are implementing the rules and safeguards. (Number of respondents: 4832; hours per response: 1 hour; total annual burden: 4832 hours). LECs must disclose aggregate customer information to others upon request, when they use or disclose the aggregate customer information for marketing service to which the customer does not subscribe. (Number of respondents: 1400; hours per response: 1 hours; total annual burden: 1400 hours). Section 22(c)(2) requires carriers when presented with a customer's affirmative written request, to provide that customer's CPNI to any person designated in the written authorization. (Number of respondents: 500; hours per response: 5 hours; total annual burden; 2500 hours). Obligation to respond: Mandatory.

Public reporting burden for the collection of information is as noted above. Send comments regarding the burden estimate or any other aspect of the collections of information, including suggestions for reducing the burden to Performance Evaluation and Records Management, Washington, DC 20554.

Federal Communications Commission.
Magalie Roman Salas,
Secretary.

[FR Doc. 00-13142 Filed 5-25-00; 8:45 am]

BILLING CODE 6712-01-U